DEPARTMENT OF ENERGY

Federal Energy Regulatory Commission

[Project No. 12596-001]

Ophir Valley Land Company, LLC; Notice of Surrender of Preliminary Permit

February 6, 2007.

Take notice that Ophir Valley Land Company, LLC, permittee for the proposed Carbonero Hydroelectric Project, has requested that its preliminary permit be terminated. The permit was issued on January 4, 2006, and would have expired on December 31, 2008.¹ The project would have been located on the Carbonero Mine Adit near Ophir, in San Miguel County, Colorado.

¹ 114 FERC ¶ 62,005.

The permittee filed the request on January 30, 2007, and the preliminary permit for Project No. 12596 shall remain in effect through the thirtieth day after issuance of this notice unless that day is a Saturday, Sunday, part-day holiday that affects the Commission, or legal holiday as described in section 18 CFR 385.2007, in which case the effective date is the first business day following that day. New applications involving this project site, to the extent provided for under 18 CFR Part 4, may be filed on the next business day.

Magalie R. Salas,
Secretary.

[FR Doc. E7-2384 Filed 2-12-07; 8:45 am]

BILLING CODE 6717-01-P